DEPARTMENT OF HEALTH AND HUMAN SERVICES

Administration for Children and Families

[OMB No.: 0970-0139]

Uniform Project Description (UPD) Project Narrative Format for Discretionary Grant Application Forms; Correction

AGENCY: Administration for Children and Families, HHS.

ACTION: Notice; correction.

SUMMARY: The Administration for Children and Families published a document in the Federal Register of February 17, 2015, concerning a request for comments on a proposed information collection. The document contained an incorrect citation.

FOR FURTHER INFORMATION CONTACT: Christopher Beach, Senior Grants Policy Specialist, Division of Grants Policy, Office of Administration, Administration for Children and Families, telephone (202) 401-1539.

Correction: In the Federal Register of February 17, 2015, in FR. Doc. 2015-03144, on page 8324, in the third column, correct the last sentence of the “Description” caption to read: “Guidance for the content of information requested in the Uniform Project Description is based in 45 CFR 75.203 and Appendix I to 45 CFR part 75.”

Christopher Beach,
Senior Grants Policy Specialist, Office of Administration.

[FR Doc. 2015-03627 Filed 2-23-15; 8:45 am]

BILLING CODE 4184-01-P